DEPARTMENT OF THE INTERIOR

Bureau of Ocean Energy Management

[Docket No. BOEM-2015-0068]

Outer Continental Shelf, Alaska Region, Beaufort Sea Planning Area, Liberty Development and Production Plan, Extension of Public Scoping Comment Period, MMAA10400

AGENCY: Bureau of Ocean Energy Management (BOEM), Interior.

ACTION: Extension of Public Scoping Comment Period, Liberty Development and Production Plan.

SUMMARY: On September 25, 2015, BOEM published a Notice of Intent (NOI) to Prepare an Environmental Impact Statement (EIS) for the Liberty Development and Production Plan (DPP) in the Beaufort Sea Planning Area (80 FR 57873). In response to the scoping meetings held in November 2015, BOEM extended the original comment period by 60 days to January 26, 2016. On January 20, 2016, BOEM received a 60 day extension request from the operator. BOEM has granted this extension to support the intent of the National Environmental Policy Act (NEPA), to collect information to define the scope of issues to be addressed in depth in the analyses that will be included in the EIS, and to provide an additional opportunity for interested and affected parties to comment. BOEM is extending the scoping comment period for an additional 62 days to March 28, 2016.

DATES: Scoping comments should be submitted by March 28, 2016.

FOR FURTHER INFORMATION CONTACT: For information on the Liberty DPP EIS or BOEM's policies associated with this notice, please contact Lauren Boldrick, Project Manager, BOEM, Alaska OCS Region, 3801 Centerpoint Drive, Suite 500, Anchorage, AK 99503, telephone (907) 334-5227.

SUPPLEMENTARY INFORMATION: Federal, state, tribal, and local governments and/or agencies and other interested parties may submit written comments on the scope of the EIS through the Federal eRulemaking Portal: http://www.regulations.gov. In the field entitled “Enter Keyword or ID,” enter [Docket No. BOEM-2015-0068], and then click “search.” Follow the instructions to submit public comments and view supporting and related materials available for this notice.

BOEM does not consider anonymous comments; please include your name and address as part of your submittal. Before including your address, phone number, email address or other personal identifying information in your comment, you should be aware that your entire comment, including your personal identifying information, may be made publicly available at any time. While you can ask us in your comments to withhold your personal identifying information from public review, we cannot guarantee that we will be able to do so.

BOEM held scoping meetings in Fairbanks, Kaktovik, Nuiqsut, Barrow, and Anchorage in November, 2015. Pursuant to the regulations implementing the procedural provisions of NEPA, BOEM may, at the request of the communities potentially affected by the Liberty Project, hold additional public scoping meetings to solicit comments on the scope of the Liberty Development and Production Plan EIS. If additional scoping meetings are to be held, a notice will be published in the local newspapers or other means of notification to the community at least 15 days in advance of the meeting date.

Dated: February 1, 2016.
Abigail Ross Hopper,
Director, Bureau of Ocean Energy Management.

[FR Doc. 2016-02654 Filed 2-9-16; 8:45 am]

BILLING CODE 4310-MR-P